NATIONAL SCIENCE FOUNDATION

Notice of Permit Modification Received Under the Antarctic Conservation Act of 1978 (Pub. L. 95-541)

AGENCY: National Science Foundation.

ACTION: Notice of Permit Modification Request Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by September 12, 2011. Permit applications may be inspected by interested parties at the Permit Office, address below.

ADDRESS: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTAL INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

DESCRIPTION OF PERMIT MODIFICATION REQUESTED: The Foundation issued a permit (2009-015) to Ron Naveen on August 25, 2008. The issued permit allows the applicant to regularly survey/census various sites in the Antarctic Peninsula, including some Antarctic Specially Protected Areas (ASPA's) as part of the ongoing Antarctic Site Inventory Project.

The applicant requests a modification to his permit to allow access to several ASPA's that have substantial penguin and seabird populations which are relevant to the analysis of population trends. The ASPA's the applicant wishes to potentially access are: ASPA 108-Green Island, ASPA 113-Litchfield Island, ASPA 140-Parts of Deception Island, ASPA 145-Port Foster, Deception Island, APA 150-Ardley Island, and ASPA 152-Western Bransfield Strait.

Location: ASPA 108-Green Island, ASPA 113-Litchfield Island, ASPA 140-Parts of Deception Island, ASPA 145-Port Foster, Deception Island, APA 150-Ardley Island, and ASPA 152-Western Bransfield Strait, and the Antarctic Peninsula region.

DATES: October 1, 2011 to August 31, 2013.

Nadene G. Kennedy,
Permit Officer, Office of Polar Programs.

[FR Doc. 2011-20364 Filed 8-10-11; 8:45 am]

BILLING CODE 7555-01-P